DEPARTMENT OF TRANSPORTATION

Federal Aviation Administration

Twenty Seventh Meeting: RTCA Special Committee 213, Enhanced Flight Vision Systems/Synthetic Vision Systems (EFVS/SVS)

AGENCY: Federal Aviation Administration (FAA), U.S. Department of Transportation (DOT).

ACTION: Meeting Notice of RTCA Special Committee 213, Enhanced Flight Vision Systems/Synthetic Vision Systems (EFVS/SVS).

SUMMARY: The FAA is issuing this notice to advise the public of the twenty seventh meeting of the RTCA Special Committee 213, Enhanced Flight Vision Systems/Synthetic Vision Systems (EFVS/SVS).

DATES: The meeting will be held January 27-29 2015 from 8:30 a.m.-5:00 p.m. on January 27-28 and 8:30 a.m.-4:00 p.m. on January 29.

ADDRESSES: FAA Long Beach Aircraft Evaluation Group 3960 Paramount Blvd. Lakewood, California 90712 1st Floor Conference Rooms A, B, & C.

FOR FURTHER INFORMATION CONTACT: Tim Etherington, tjetheri@rockwellcollins.com, (319) 295-5233 or mobile at (319) 431-7154, Patrick Krohn, pkrohn@uasc.com, telephone (425) 602-1375 or mobile at (425) 829-1996 and The RTCA Secretariat, 1150 18th Street NW., Suite 910, Washington, DC 20036, or by telephone at (202) 330-0652/(202) 833-9339, fax at (202) 833-9434, or Web site at http://www.rtca.org. Additional contact information: RTCA contact is Jennifer Iverson, jiverson@rtca.org, (202) 330-0662.

SUPPLEMENTARY INFORMATION: Pursuant to section 10(a)(2) of the Federal Advisory Committee Act (Pub. L. 92-463, 5 U.S.C., App.), notice is hereby given for a meeting of Special Committee 213. The agenda will include the following:

Tuesday, January 27

Plenary discussion (sign-in at 08:00 a.m.)

• Introductions and administrative items

• Review and approve minutes from last full plenary meeting

• Review of terms of reference (if needed)

• Status of DO-341A

• DO-3XX FRAC Comment Review and Disposition

Wednesday, January 28

Plenary discussion

• DO-3XX FRAC Comment Review and Disposition

• WG2 Draft Document

Thursday, January 29

Plenary discussion

• WG2 Draft Document

• Administrative items (new meeting location/dates, action items etc.)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 18, 2014.
Mohannad Dawoud,
Management Analyst, NextGen, Program Oversight and Administration, Federal Aviation Administration.

[FR Doc. 2014-30262 Filed 12-23-14; 8:45 am]

BILLING CODE 4910-13-P